DEPARTMENT OF ENERGY

Federal Energy Regulatory Commission

Combined Notice of Filings # 1

September 20, 2007.

Take notice that the Commission received the following electric rate filings:

Docket Numbers: ER98-2157-010; ER03-9-009.

Applicants: Western Resources, Inc.; Kansas Gas and Electric Company.

Description: Westar Energy, Inc and Kansas Gas and Electric Co submits Fifth Revised Sheet 1 et al to FERC Electric Tariff, Third Revised Volume 6, to be effective 9/18/07.

Filed Date: 09/17/2007.

Accession Number: 20070919-0065.

Comment Date: 5 p.m. Eastern Time on Tuesday, October 9, 2007.

Docket Numbers: ER99-1757-013.

Applicants: The Empire District Electric Company.

Description: The Empire District Electric Co submits Fifth Revised Sheet 1 et al to FERC Electric Tariff, First Revised Volume 3, to be effective 9/18/07.

Filed Date: 09/17/2007.

Accession Number: 20070919-0059.

Comment Date: 5 p.m. Eastern Time on Tuesday, October 9, 2007.

Docket Numbers: ER06-819-006.

Applicants: Consolidated Edison Energy Massachusetts, Inc. and Consolidated Edison Energy, Inc.

Description: ERRATA to Correct Compliance Filing of Refund Report of Consolidated Edison Energy Massachusetts, Inc., et al.

Filed Date: 09/14/2007.

Accession Number: 20070914-5012.

Comment Date: 5 p.m. Eastern Time on Friday, October 5, 2007.

Docket Numbers: ER07-1355-001.

Applicants: Avista Energy, Inc.

Description: Avista Energy, Inc submits an errata to the notice of Cancellation of Market-Base Rate Schedule filed 9/7/07.

Filed Date: 09/17/2007.

Accession Number: 20070919-0058.

Comment Date: 5 p.m. Eastern Time on Tuesday, October 9, 2007.

Docket Numbers: ER07-1371-000.

Applicants: Sierra Pacific Power Company; Nevada Power Company.

Description: Sierra Pacific Power Co and Nevada Power Co submits a change in the rates for transmission services under the SPR Operating Companies' open-access transmission tariff, FERC Third Revised Volume 1.

Filed Date: 09/14/2007.

Accession Number: 20070918-0167.

Comment Date: 5 p.m. Eastern Time on Friday, October 5, 2007.

Docket Numbers: ER07-1373-000.

Applicants: California Independent System Operator Corp.

Description: California Independent System Operator Corp submits an unexecuted Operating Agreement with PacifiCorp.

Filed Date: 09/14/2007.

Accession Number: 20070918-0136.

Comment Date: 5 p.m. Eastern Time on Friday, October 5, 2007.

Docket Numbers: ER07-1375-000.

Applicants: Midwest Independent Transmission System Operator, Inc.

Description: Midwest Independent Transmission System Operator, Inc submits an unexecuted Large Generator Interconnection Agreement with Interstate Power and Light Co et al.

Filed Date: 09/14/2007.

Accession Number: 20070918-0138.

Comment Date: 5 p.m. Eastern Time on Friday, October 5, 2007.

Docket Numbers: ER07-1376-000.

Applicants: New York Independent System Operator, Inc.

Description: New York Independent System Operator, Inc submits an informational filing re the Joint Operating Agreement executed on 5/20/07 et al.

Filed Date: 09/14/2007.

Accession Number: 20070918-0139.

Comment Date: 5 p.m. Eastern Time on Friday, October 5, 2007.

Docket Numbers: ER07-1382-000.

Applicants: Duke Energy Carolinas, LLC.

Description: Duke Energy Carolinas, LLC submits a long-term firm Transmission Service Agreement with Cargill Power Markets, LLC.

Filed Date: 09/18/2007.

Accession Number: 20070919-0060.

Comment Date: 5 p.m. Eastern Time on Tuesday, October 9, 2007.

Docket Numbers: ER07-1383-000; ER07-1384-000.

Applicants: Duke Energy Shared Services, Inc.

Description: Duke Energy Shared Services, Inc submits a notice of cancellation.

Filed Date: 09/18/2007.

Accession Number: 20070919-0061.

Comment Date: 5 p.m. Eastern Time on Tuesday, October 9, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary

[FR Doc. E7-21645 Filed 11-1-07; 8:45 am]

BILLING CODE 6717-01-P